NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permits issued under the Antarctic Conservation Act of 1978. This is the required notice.

FOR FURTHER INFORMATION CONTACT: Joyce A. Jatko, Telephone 703-292-8032. Permit Office, Room 755, Office of Polar Programs, National Science Foundation, 4201 Wilson Boulevard, Arlington, Virginia 22230.

SUPPLEMENTARY INFORMATION: On December 20, 2000, the National Science Foundation published a notice in the Federal Register of a permit application received. The permit was issued on January 19, 2001 to the following applicant: Raymond V. Arnaudo, Permit No. 2001-024.

Joyce A. Jatko,
Acting Permit Officer, Office of Polar Programs.

[FR Doc. 01-2613 Filed 1-30-01; 8:45 am]

BILLING CODE 7555-01-M